DEPARTMENT OF DEFENSE

Department of the Navy

Notice of Extension of Public Scoping Period for the Environmental Impact Statement for the Fallon Range Training Complex Modernization, Nevada

AGENCY: Department of the Navy, DoD.

ACTION: Notice.

SUMMARY: The Department of the Navy (DoN) published a notice of intent (NOI) to prepare an Environmental Impact Statement (EIS) for the Fallon Range Training Complex Modernization in the Federal Register (81 FR 58919) on August 26, 2016, which initiated a 90-day public scoping period ending on November 25, 2016. This notice confirms the extension of that public scoping period until December 12, 2016.

FOR FURTHER INFORMATION CONTACT: Naval Facilities Engineering Command Southwest; Attention: Amy P. Kelley, Code EV21.AK; 1220 Pacific Highway; Building 1, 5th Floor; San Diego, California 92132.

SUPPLEMENTARY INFORMATION: The public scoping period for the Fallon Range Training Complex Modernization EIS will be extended until December 12, 2016. Scoping comments may be submitted in writing to the address identified above. In addition, scoping comments may be submitted online at http://www.FRTCModernization.com. All written comments must be postmarked or received online by December 12, 2016 to ensure they become part of the official record. All comments submitted to the DoN during the public scoping period will be taken into consideration during EIS preparation.

Dated: November 7, 2016.
C. Mora,
Commander, Judge Advocate General's Corps, U.S. Navy, Federal Register Liaison Officer.

[FR Doc. 2016-27205 Filed 11-9-16; 8:45 am]

BILLING CODE 3810-FF-P